DEPARTMENT OF DEFENSE

Department of the Army; Army Corps of Engineers

Notice of Intent To Prepare an Environmental Impact Statement for 408 Permission and 404 Permit to Sacramento Area Flood Control Agency for the Natomas Levee Improvement Project, Sacramento, CA

AGENCY: Department of the Army, U.S. Army Corps of Engineers; DoD.

ACTION: Notice of intent.

SUMMARY: The action being taken is the preparation of an environmental impact statement (EIS) for the issuance of both the 408 permission and 404 permit to SAFCA for their work on the Natomas Levee Improvement Project (NLIP). The 408 is permission to alter existing flood control structures and the 404 permit is required for the discharge of dredged or fill material into the waters of U.S. under the Clean Water Act. The NLIP is located in Sacramento and Sutter Counties, California. SAFCA is requesting this permission and permit in order to complete construction along the Natomas Cross Canal and on the landside of the east levee of the Sacramento River.

DATES: A public scoping meeting was held January 9, 2008. Send written comments by February 15, 2008 to the address listed under the ADDRESSES section.

ADDRESSES: Send written comments and suggestions concerning this study to Ms. Elizabeth Holland, U.S. Army Corps of Engineers, Sacramento District, Attn: Planning Division (CESPK-PD-R), 1325 J Street, Sacramento, CA 95814. Requests to be placed on the mailing list should also be sent to this address.

FOR FURTHER INFORMATION CONTACT: Questions about the proposed action and EIS should be addressed to Liz Holland at (916) 557-6763, e-mail Elizabeth.g.holland@usace.army.mil or by mail to the address listed under the ADDRESSES section.

SUPPLEMENTARY INFORMATION:

1. Proposed Action

The U.S. Army Corps of Engineers is preparing an EIS to analyze the impacts of the work proposed by SAFCA from the implementation of the NLIP. The NLIP is being constructed by SAFCA to improve flood protection to portions of the City and County of Sacramento and Sutter County lying within the Natomas Basin.

2. Alternatives

The EIS will address an array of flood control improvement alternatives. Alternatives analyzed during the investigation will include a combination of one or more flood protection measures. These measures include seepage berms, adjacent setback levees, seepage wells, seepage cutoff walls, and relocation of irrigation ditches.

3. Scoping Process

a. A public scoping meeting was held on January 9, 2008 to present information to the public and to receive comments from the public. The Corps has initiated a process to involve concerned individuals, and local, State, and Federal agencies.

b. Significant issues to be analyzed in depth in the EIS include effects on hydraulic, wetlands and other waters of the U.S., vegetation and wildlife resources, special-status species, esthetics, cultural resources, recreation, land use, fisheries, water quality, air quality, transportation, and socioeconomics; and cumulative effects of related projects in the study area.

c. The Corps is consulting with the State Historic Preservation Officer to comply with the National Historic Preservation Act, and the U.S. Fish and Wildlife Service to provide a Fish and Wildlife Coordination Act Report as an appendix to the EIS.

d. A 45-day public review period will be provided for individuals and agencies to review and comment on the draft EIS. All interested parties are encouraged to respond to this notice and provide a current address if they wish to be notified of the draft EIS circulation.

4. Availability

The draft EIS is scheduled to be available for public review and comment in early 2008.

Dated: January 21, 2008.
Thomas Chapman,
COL, EN, Commanding.

[FR Doc. E8-1753 Filed 1-30-08; 8:45 am]

BILLING CODE 3710-EZ-P